ENVIRONMENTAL PROTECTION AGENCY

[FRL-7850-7]

Federal Agency Hazardous Waste Compliance Docket

AGENCY: Environmental Protection Agency.

ACTION: Notice of twentieth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this twentieth update of the docket and includes facilities not previously listed on the docket and reported to EPA since the last update of the docket, 69 FR 42989, July 19, 2004, which was current as of January 19, 2004. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 8 additions and 10 deletions since the previous update, as well as numerous other corrections to the docket list. At the time of publication of this notice, the new total number of Federal facilities listed on the docket is 2,291.

DATES: This list is current as of September 13, 2004.

FOR FURTHER INFORMATION CONTACT: Electronic versions of the docket may be obtained at http://www.epa.gov/compliance/cleanup/federal/index.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR 44200); January 2, 2003 (68 FR 107); July 11, 2003 (68 FR 41353); December 15, 2003 (68 FR 69685); and July 19, 2004 (69 FR 42989). This notice constitutes the twentieth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS), U.S. EPA Region 1, #1 Congress St., Suite 1100, Boston, MA 02114-2023, (617) 918-1377.

Helen Shannon (ERRD), U.S. EPA Region 2, 290 Broadway, 18th Floor, New York, NY 10007-1866, (212) 637-4260.

Alida Karas (ERRD), U.S. EPA Region 2, 290 Broadway, New York, NY 10007-1866, (212) 637-4276.

Cesar Lee (3HS50), U.S. EPA Region 3, 1650 Arch Street, Philadelphia, PA 19107, (215) 814-3205.

Gena Townsend (4WD-FFB), U.S. EPA Region 4, 61 Forsyth St., SW., Atlanta, GA 30303, (404) 562-8538.

Philip Ofosu (6SF-RA), U.S. EPA Region 6, 1445 Ross Avenue, Dallas, TX 75202-2733, (214) 665-3178.

D. Karla Asberry (FFSC), U.S. EPA Region 7,901 N. Fifth Street, Kansas City, KS 66101, (913) 551-7595.

Stan Zawistowski (EPR-F), U.S. EPA Region 8, 999 18th Street, Suite 500, Denver, CO 80202-2466, (303) 312-6255.

Philip Armstrong (SFD-9-1), U.S. EPA Region 9, 75 Hawthorne Street, San Francisco, CA 94105, (415) 972-3098.

Ken Marcy (ECL-115), U.S. EPA Region 10, 1200 Sixth Avenue, Seattle, WA 98101, (206) 553-2782.

Laura Ripley (SE-5J), U.S. EPA Region 5, 77 W. Jackson Blvd., Chicago, IL 60604, (312) 886-6040.

Monica Lindeman (ECL, SACU2), U.S. EPA Region 10, 1200 Sixth Avenue, Seattle, WA 98101, (206) 553-5113.

2.0 Revisions of the Previous Docket

Following is a discussion of the revisions of the previous docket, including additions, deletions, and corrections.

2.1 Additions

Today, 8 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 39 facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 10 facilities are being deleted from the docket. When facilities are deleted from the docket, it is for reasons such as incorrect reporting of hazardous waste activity, change in ownership, and exemption as an SQG under RCRA (40 CFR 262.44). Facilities being deleted no longer will be subject to the requirements of CERCLA section 120(d).

Three United States Department of Agriculture (USDA) sites, including two mine sites and one National Forest, are among the 10 facilities that EPA is deleting from the docket today. The Agency believes it is no longer appropriate to keep these sites on the docket because they involve certain mine sites which the Agency, by policy, generally will no longer list on the docket. These sites also are cleaned up or substantially cleaned up, and may have been listed on the docket due to mistakenly submitted RCRA Section 3016 reports.

Today's USDA deletions are consistent with a recent EPA policy document. In June 2003, EPA issued a policy which addressed the issue of when so-called “mixed ownership” mine or mill sites, created as a result of the General Mining Law of 1872 (GML), 30 U.S.C. 22 et seq., should be included on the published list of Federal facilities which have been reported to the docket. As a matter of policy, EPA believes that mixed ownership mine or mill sites created as a result of the GML generally should not be included on the published list of Federal facilities which have been reported to the Docket. Mixed ownership mine or mill sites are those located partially on private land and partially on public land. Many mine and mill sites consist of both Federal and private land ownership and, generally under the GML, a person could establish private rights to mine certain minerals on Federally-owned land by staking a claim to the land. Once a claim is established and if it is maintained, the claimant gains rights to the beneficial use of the property incident to mining, but the fee simple title remains with the Federal government. A claimant may, through a process called “patenting,” buy the fee simple interest from the Federal government and own the property in its entirety. If the owner of patented property abandons it, the property does not revert to the United States, but remains private land. The effect of the GML is that thousands of former mine or mill sites are now private properties (inholdings) within the boundaries of Federal land managed as National Forests, National Parks, and Bureau of Land Management (BLM)-managed lands.

2.2.1 Terrero Mine Tailings Site

The Terrero Mine Tailings site is a GML mixed ownership mine site located in New Mexico, and was added to the docket on November 10, 1993. The site has been cleaned up by the responsible party under a series of Administrative Orders on Consent with the State of New Mexico. The USDA Forest Service is not engaged in any cleanup at the site, and no longer manages property in the vicinity of the site. The site is not classified as a Federal facility in CERCLIS, and USDA deeded the roughly eight acres of USDA Forest Service land on the site to the State of New Mexico.

The site was placed on the docket because of the RCRA Section 3016 reporting of Federal agency hazardous waste facilities by USDA. USDA asserts that this RCRA 3016 report may have been submitted in error. USDA's position is that the fact that USDA mistakenly submitted a RCRA 3016 report should not necessarily result in listing the Terrero Mine Tailings Site on the docket.

Regardless of whether it was appropriate to submit a RCRA 3016 report, the Terrero Mine Tailings Site is being deleted from the docket because the site is a GML mixed ownership mine site that the June 2003 EPA policy was intended to address, and because the Terrero Mine Tailings Site has been cleaned up and USDA has no current involvement at the site.

2.2.2 Rio Tinto Mine Site

The Rio Tinto Mine site is a GML mixed ownership mine site located in Nevada, and was added to the docket on December 12, 1991. The site is listed on the docket as the Rio Tinto Copper Mine. The site is being cleaned up through a series of Administrative Orders on Consent between the responsible parties and the State of Nevada. The cleanup is a State-lead action, and the site is primarily privately held. USDA conducted a land exchange with one of the responsible parties to reduce the administrative burden on the State and Federal agencies involved in the cleanup. The land exchange also clarified jurisdictional concerns so that response actions could proceed. USDA Forest Service is a Natural Resources Trustee at the site, and the only other USDA involvement at the site is to maintain a 60-foot right-of-way through the property. The site is not classified as a Federal facility in CERCLIS.

The site was placed on the docket because of the RCRA Section 3016 reporting of Federal agency hazardous waste facilities by USDA. USDA asserts that this RCRA 3016 report may have been submitted in error. USDA's position is that the fact that USDA mistakenly submitted a RCRA 3016 report should not necessarily result in listing the Rio Tinto Copper Mine site on the docket.

Regardless of whether it was appropriate to submit a RCRA 3016 report, the Rio Tinto Copper Mine site is being deleted from the docket because the site is a GML mixed ownership mine site that the June 2003 EPA policy was intended to address, and because the Rio Tinto Copper Mine site is being cleaned up and USDA has little or no current involvement at the site.

2.2.3 Toiyabe National Forest Site

The Toiyabe National Forest site is located in several distinct and scattered areas across western Nevada and eastern California, and was added to the docket on December 15, 1989. The gross acreage of land within the established external boundaries of the Toiyabe National Forest is approximately 3.4 million acres of which approximately 3.2 million acres are under the jurisdiction of USDA Forest Service. A total of approximately 136,000 acres within the external boundaries of the Toiyabe National Forest are private land inholdings, not under USDA Forest Service jurisdiction, including the Leviathan Mine Site and the Northumberland Mine Site. Addressing the approximately 3.4 million-acre Toiyabe National Forest as a single Federal facility on the docket has created administrative and technical difficulties, and has caused confusion with the public. For example, state regulators have asked USDA to pinpoint the actual facility of concern, knowing that the entire 3 million-plus acre Toiyabe National Forest cannot be the source. The Toiyabe National Forest is approximately the size of some smaller states. Listing an entire State on the docket because of contamination from a few landfills or mine sites would be confusing, as is listing an entire national forest because of contamination from a few mine sites. Contamination causing concern covers only a small fraction of the entire external boundary of the Toiyabe National Forest, and conducting a Preliminary Assessment (PA) of the entire Toiyabe National Forest is not feasible. EPA believes, where appropriate, in instances where an entire National Forest has been listed as a single facility on the docket, it is reasonable to narrow the docket listing by examining the reporting mechanism which is the likely source for the original docket listing. However, this action does not mean that the particular National Forest is free, in its entirety, from contamination of concern. Nor does this action relieve USDA Forest Service from notification requirements to EPA of any site on land under the jurisdiction of USDA Forest Service where there is a release or a threatened release.

The published reporting mechanism that lead to the listing of the entire Toiyabe National Forest on the docket is the RCRA Section 3016 reporting of Federal agency hazardous waste facilities by USDA. RCRA Section 3016 reports were submitted for the Leviathan Mine site, the Northumberland Mine site, and the U.S. Marine Corps Mountain Warfare Training Center.

The Leviathan Mine site is a GML mixed ownership mine site that is now primarily privately (state) owned. USDA asserts that the RCRA 3016 report for the Leviathan Mine site may have been in error, but regardless, submittal of a RCRA 3016 report should not have resulted in listing the entire Toiyabe National Forest on the docket. The Leviathan Mine site is being cleaned up by the responsible parties at the site under Unilateral Administrative Orders issued by EPA Region 9, and is not classified as a Federal facility in CERCLIS. The site is primarily owned by the State of California, and is managed by the Lohontan Regional Water Quality Control Board. USDA Forest Service has jurisdiction over less than 10 percent of the site, with primary involvement being as a Natural Resources Trustee.

The Northumberland Mine site is a GML mixed ownership mine site that is now totally privately owned. USDA asserts that the RCRA 3016 report for the Northumberland Mine site may have been submitted in error, but regardless, submittal of a RCRA 3016 report should not have resulted in listing the entire Toiyabe National Forest on the docket. The Northumberland Mine site has been cleaned up and reclaimed by the mine operators, and has been given No Further Remedial Action Planned (NFRAP) status by EPA. The site is not classified as a Federal facility in CERCLIS, and USDA has no involvement at the site.

The U.S. Marine Corps Mountain Warfare Training Center occupies 46,000 acres of the Toiyabe National Forest and use of the land is permitted by letter of agreement with USDA Forest Service. RCRA 3016 reports have been filed by USDA as well as by the United States Department of the Interior. The U.S. Marine Corps Mountain Warfare Training Center is not a USDA facility, and is already listed on the docket as a United States Department of the Navy installation.

Regardless of whether it was appropriate to submit the RCRA 3016 reports for the Leviathan Mine site and the Northumberland Mine site, such reporting should not have resulted in listing the entire Toiyabe National Forest on the docket. Because the Leviathan Mine site and the Northumberland Mine site are GML mixed ownership mine sites that the June 2003 EPA policy was intended to address, because the two mine sites are cleaned up or are being cleaned up with no current USDA involvement at the mine sites, and because the U.S. Marine Corps Mountain Warfare Training Center is not a USDA facility and is already listed on the docket as a United States Department of the Navy installation, the Toiyabe National Forest is being deleted from the docket.

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

Lewis and Clark National Forest and Humboldt National Forest are among the sites EPA is correcting on the docket today. Addressing entire National Forests as single Federal facilities on the docket has created administrative and technical difficulties, and has caused confusion with the public. For example, State regulators have asked USDA to pinpoint the actual facilities of concern for National Forests listed on the docket, knowing that an entire National Forest cannot be the source. Contamination causing concern usually covers only a small fraction of a listed National Forest, and conducting a PA of an entire National Forest is not feasible. EPA believes, where appropriate, in instances where an entire National Forest has been listed as a single facility on the docket, it is reasonable to narrow the docket listing by examining the reporting mechanism which is the likely source for the original docket listing. However, this action does not mean that the particular National Forest is free, in its entirety, from contamination of concern. Nor does this action relieve USDA Forest Service from notification requirements to EPA of any site on land under the jurisdiction of USDA Forest Service where there is a release or a threatened release.

2.3.1 Lewis and Clark National Forest

Lewis and Clark National Forest Site was added to the docket on February 12, 1988. Located in five large areas that encompass five USDA Forest Service Ranger Districts across five distinct mountain ranges of Montana, the gross acreage within the established external boundaries of the Lewis and Clark National Forest is approximately 2.0 million acres of which approximately 1.9 million acres are under the jurisdiction of USDA Forest Service. A total of approximately 140,000 acres within the external boundaries of the Lewis and Clark National Forest are private land inholdings, not under USDA Forest Service jurisdiction, including a portion of the Hughesville/Block P Millsite.

Addressing the approximately 2.0 million-acre Lewis and Clark National Forest as a single Federal facility on the docket has created administrative and technical difficulties, and has caused confusion with the public. EPA believes, where appropriate, in instances where an entire National Forest has been listed as a single facility on the docket, it is reasonable to narrow the docket listing by examining the reporting mechanism which is the likely source for the original docket listing. The published reporting mechanism leading to the listing of the entire Lewis and Clark National Forest on the docket is the RCRA Section 3016 reporting of Federal agency hazardous waste facilities by USDA. RCRA Section 3016 reports were submitted for the Hughesville/Block P Millsite and the Belt Creek Civilian Conservation Corps (CCC) Camp.

The Hughesville/Block P Millsite is an Abandoned Mine Site (AMS) that is a GML mixed ownership milling facility that was in use off and on for almost 100 years. USDA asserts that the RCRA 3016 report for the Hughesville/Block P Millsite may have been in error, but regardless, submittal of a RCRA 3016 report should not have resulted in listing the entire Lewis and Clark National Forest on the docket. Because a portion of the mill tailings at the site are located on USDA Forest Service lands and because the releases of hazardous substances from the site affect USDA Forest Service resources, EPA designated USDA Forest Service as the lead agency for and oversight of the removal action at the Hughesville/Block P Millsite. The site is on the NPL, and an Engineering Evaluation/Cost Analysis was completed through an Administrative Order on Consent issued jointly by USDA and EPA to one responsible party for the contamination at the Hughesville/Block P Millsite. Earlier this year, EPA concurred with USDA's proposal to exercise authority under CERCLA Section 106 at the Hughesville/Block P Millsite, and USDA subsequently issued a Unilateral Administrative Order to a responsible party ordering the company to conduct a non-time critical removal action at the site to further the cleanup process.

The Belt Creek CCC Camp is on land under the jurisdiction of USDA Forest Service. The U.S. Army operated the CCC camp, treating fence posts and telephone poles, from around 1934 until sometime between 1939 and 1942. The last building was removed from the CCC camp by 1948, and USDA Forest Service completed a preliminary assessment of the Belt Creek CCC Camp in 1988. This site is currently being evaluated by USDA Forest Service, and additional sampling, analysis, and corrective action may be necessary, pending the evaluation and review by EPA. USDA's position is that the fact that USDA submitted a RCRA 3016 report for the Belt Creek CCC Camp should not necessarily result in listing the entire Lewis and Clark National Forest on the docket.

Regardless of whether it was appropriate to submit the RCRA 3016 reports for the Hughesville/Block P Millsite and the Belt Creek CCC Camp, such reporting should not have resulted in listing the entire Lewis and Clark National Forest on the docket. Because the Hughesville/Block P Millsite is a GML mixed ownership mine site that the June 2003 EPA policy was intended to address, and because the Hughesville/Block P Millsite, which is also an NPL site, is being cleaned up with USDA Forest Service as lead agency, the docket listing for the Lewis and Clark National Forest is being corrected to narrow the listing to the Belt Creek CCC Camp.

2.3.2 Humboldt National Forest

Humboldt National Forest was added to the docket on December 15, 1989. Located in several distinct and scattered areas across northeastern Nevada, the gross acreage within the established external boundaries of the Humboldt National Forest is approximately 2.6 million acres of which approximately 2.5 million acres are under the jurisdiction of the USDA Forest Service. A total of approximately 139,000 acres within the external boundaries of the Humboldt National Forest are private land inholdings, not under USDA Forest Service jurisdiction, including the Buckskin Mine site, and the Rio Tinto Mine site. (The Rio Tinto Mine site is listed separately on the docket as the Rio Tinto Copper Mine and was previously discussed in the Section 2.2 of this Notice.)

Addressing the approximately 2.6 million-acre Humboldt National Forest as a single Federal facility on the docket has created administrative and technical difficulties, and has caused confusion with the public. EPA believes, where appropriate, in instances where an entire National Forest has been listed as a single facility on the docket, it may make sense to narrow the docket listing by examining the reporting mechanism which is the likely source for the original docket listing. The published reporting mechanism that lead to the listing of the entire Humboldt National Forest on the docket is the RCRA Section 3016 reporting of Federal agency hazardous waste facilities by USDA. RCRA Section 3016 reports were submitted for the Rio Tinto Mine site and the Buckskin Mine site.

The Rio Tinto Mine site is a GML mixed ownership mine site that is primarily privately held. USDA asserts that the RCRA 3016 report for the Rio Tinto Mine site may have been submitted in error, but regardless, submittal of a RCRA 3016 report should not have resulted in listing the entire Humboldt National Forest on the docket. The Rio Tinto Mine site is being cleaned up through a series of Administrative Orders on Consent between the responsible parties and the State of Nevada, and the cleanup is a State-lead action. USDA conducted a land exchange with one of the responsible parties to reduce the administrative burden on the State and Federal agencies involved in the cleanup. The land exchange also clarified jurisdictional concerns so that response actions could proceed. USDA Forest Service is a Natural Resources Trustee at the site, and the only other USDA involvement at the site is to maintain a 60-foot right-of-way through the property. The site is not classified as a Federal facility in CERCLIS.

The Buckskin Mine site is GML mine site that is completely under the jurisdiction of USDA Forest service. USDA asserts that the RCRA 3016 report for the Buckskin Mine site may have been in error, but regardless, submittal of a RCRA 3016 report should not have resulted in listing the entire Humboldt National Forest on the docket. EPA is designating the Buckskin Mine a NFRAP status site, and no further cleanup is anticipated.

Regardless of whether it was appropriate to submit the RCRA 3016 reports for the Rio Tinto Mine site and the Buckskin Mine site, such reporting should not have resulted in listing the entire Humboldt National Forest on the docket. Because the Rio Tinto Mine site is a GML mixed ownership mine site that the June 2003 EPA policy was intended to address, and because the two mine sites are cleaned up or are being cleaned up with no current USDA involvement at the mine sites, the docket listing for the Humboldt National Forest is being corrected to narrow the listing to the Buckskin Mine site. Although the Buckskin Mine site is a GML site, it is not a mixed ownership mine site that the June 2003 EPA policy was intended to address. Thus, the site is not appropriate for deletion from the docket, the docket listing for the Humboldt National Forest is being corrected to narrow the listing to the Buckskin Mine site, and the site is being given NFRAP status by EPA.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRAInfo), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, State-owned or privately owned facilities that are not operated by the Federal government may have been included. Such problems are caused by procedures historically used to report and track data on Federal facilities; EPA is working to resolve them. Representatives of Federal agencies are asked to write to EPA's docket coordinator at the following address if revisions of this update information are necessary: Joshua Barber, Federal Agency Hazardous Waste Compliance Docket Coordinator, Federal Facilities Restoration and Reuse Office (Mail Code 5106G), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U = Undetermined.

N = No further remedial action planned (NFRAP).

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of September 13, 2004. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by State and then grouped alphabetically within each State by the Federal agency responsible for the facility. Under each State heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/compliance/cleanup/federal/index.html or by calling the HQ Docket Coordinator at (703) 603-0265. As of today, the total number of Federal facilities that appear on the docket is 2,291.

Dated: December 14, 2004.
David J. Kling,
Director, Federal Facilities Enforcement Office.

Docket Revisions

Categories of revisions for docket update by correction code.

Categories for Deletion of Facilities

(1) Small-Quantity Generator.

(2) Not Federally Owned.

(3) Formerly Federally Owned.

(4) No Hazardous Waste Generated.

(5) (This correction code is no longer used.)

(6) Redundant Listing/Site on Facility.

(7) Combining Sites Into One Facility/Entries Combined.

(8) Does Not Fit Facility Definition.

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism.

(16) One Entry Being Split Into Two/Federal Agency Responsibility Being Split.

(17) New Information Obtained Showing That Facility Should Be Included.

(18) Facility Was a Site on a Facility That Was Disbanded; Now a Separate Facility.

(19) Sites Were Combined Into One Facility.

(19A) New Facility.

Categories for Corrections of Information About Facilities

(20) Reporting Provisions Change.

(20A) Typo Correction/Name Change/Address Change.

(21) Changing Responsible Federal Agency (New Responsible Federal Agency Must Submit proof of previously performed PA, which is subject to approval by EPA).

(22) Changing Responsible Federal Agency and Facility Name (New Responsible Must Submit proof of previously performed PA, which is subject to approval by EPA).

(23) New Reporting Mechanism Added at Update.

(24) Reporting Mechanism Determined To Be Not Applicable After Review of Regional Files.

Note: Further information on definitions of categories can be obtained by calling Joshua Barber, the HQ Docket Coordinator at (703) 603-0265.

Federal Agency Hazardous Waste Compliance Docket Update #20—Additions
Facility name | Address | City | State | Zip code | Agency | Reporting | Code
FS-Tongass NF: North Saginaw Bay LTF and Camp FS-Tongass NF: Mahoney Mine | Lat 56 51.57 N Kuiu Island W of T74S R91E S25 | Kake Ketchikan | AK AK | 99830 99901 | Agriculture Agriculture | 3010 103c | 19A 19A
FS-Tongass NF: East Side Sitkoh Bay (LTF) | Lat 57 31.19 N Chichagof Island | Sitka | AK | 99835 | Agriculture | 3010 | 19A
FS-Tongass NF: Ratz Harbor Shop Site | T69S R84E S18 | Thorne Bay | AK | 99919 | Agriculture | 103c | 19A
FS-Chugach NF: Mineral King Mine | T10N R6E Sec 14, 15, 23 | Whittier | AK | 99693 | Agriculture | 103c | 19A
Dubuque Naval Reserve Station | 10677 Airport Rd | Dubuque | IA | 52003 | Navy | 3010 | 19A
Omaha (EX) AF Sta Z-71 | 4 Miles Northwest of Omaha, NE | Omaha | NE | 68108 | Transportation | 103c | 19A
US DOI BIA Cook Creek Field Station | 32 Shop Road | Humptulips | WA | 98552 | Interior | 3010 | 19A

Federal Agency Hazardous Waste Compliance Docket Update #20—Deletions
Facility name | Address | City | State | Zip code | Agency | Reporting | Code
Washington Headquarters | 600 Independence Ave, SW | Washington | DC | 20546 | General Services Administration | 3010 | 6
Crystal Lake Postal Service | 301 E Congress Pkwy | Crystal Lake | IL | 60060 | Postal Service | 3010 | 4
Fort Ritchie-Raven Rock Site (AJCC) | Harbaugh Valley Rd | Blue Ridge Summit | MD | 17214 | Army | 3016 | 6
Brookmont Defense Mapping Agency HTC | 6101 Macarthur Blvd | Brookmont | MD | 20816 | Army | 3010 | 6
Annapolis Naval Station | Old Severn River Bridge | Annapolis | MD | 21402 | Navy | 3005 3010 3016 103c | 6
Washington Naval Communication Unit | Dangerfield & Commo Rd | Clinton | MD | 20735 | Navy | 3010 103c | 6
Santa Fe NF: Terrero Mine Tailings |  | Santa Fe | NM | 87504 | Agriculture | 3016 | 8
Rio Tinto Copper Mine | Sec 10 & 11 T45N R53E MDM | Mountain City | NV | 89831 | Agriculture | 103c | 8
Toiyabe National Forest | 1200 Franklin Way | Sparks | NV | 89431 | Agriculture | 103c 3016 | 8
MSHA | PO Box 10940 | Pittsburgh | PA | 15236 | Labor | 3010 103c 3016 | 6

Federal Agency Hazardous Waste Compliance Docket Update #20—Corrections
Facility name | Address | City | State | Zip code | Agency | Reporting mechanism | Code
c Bolling Air Force Base | 5 Capital Street | Washington | DC | 20336 | Air Force | 103c 3016 | 20A
o Bolling Air Force Base | HQ 110th Air Base Wing 5 Capital St | Washington | DC | 20331 | Air Force | 103c 3016 |
c SE Federal Center (Washington) | 2nd and M Street, SE | Washington | DC | 20407 | General Services Administration | 3010 103c | 20A
o Washington Office | 2nd and M Street, SE | Washington | DC | 20407 | General Services Administration | 3010 103c |
c U.S. Government Printing Office | 732 N Capitol Street, NW | Washington | DC | 20401 | Government Printing Office | 3010 3005 | 20A, 21
o U.S. Government Printing Office | N Capitol Street, NW | Washington | DC | 20401 | General Services Administration | 3010 3005 |
c New Castle Training Site-Rifle Range | 12 Pennsway Greater Wilmington Airport | New Castle | DE | 19720 | Army | 3016 | 20A
o New Castle Training Site-Rifle Range | Bldg 1A 1197 River Rd | New Castle | DE | 19720 | Army | 3016 |
c Brandywine DRMO | Rt 381 Brandywine Road | Brandywine | MD | 20613 | Air Force | 3010 3016 | 20A
o Brandywine Salvage Yard | Rt 381 Brandywine Road | Brandywine | MD | 20613 | Air Force | 3010 3016 |
c Adelphi Laboratory Center (Harry Diamond Lab) | 2800 Powder Mill Road | Adelphi | MD | 20783 | Army | 3005 3010 3016 103c | 20A
o Adelphi Laboratory Center | 2800 Powder Mill Road | Adelphi | MD | 20783 | Army | 3005 3010 3016 103c | 20A
c Walter Reed Army Medical Center (Forest Glen) | 2461 Linden Lane | Silver Spring | MD | 20910 | Army | 3010 103c | 20A
o Walter Reed Army Medical Center | 2461 Linden Lane | Silver Spring | MD | 20910 | Army | 3010 103c |
c National Marine Fisheries Service-Oxford Lab | U.S. Dept of Marine Fisheries, Oxford Laboratory | Oxford | MD | 21654 | Commerce | 103c 3010 | 20A
o Oxford National Marine Fisheries Service | U.S. Dept of Marine Fisheries Oxford Laboratory | Oxford | MD | 21654 | Commerce | 103c 3010 |
c Chesapeake Beach Detachment-Naval | 5812 Bayside Rd | Chesapeake | MD | 20732 | Navy | 3010 | 20A
o Chesapeake Beach Detachment-Naval | 5813 Bayside Rd | Chesapeake Beach | MD | 20732 | Navy | 3010 |
c Belt Creek CCC Camp | T14N R7E Sec 1 | Neihart | MT | 59465 | Agriculture | 103c 3016 | 20A
o Lewis & Clark National Forest | Box 871 | Great Falls | MT | 59403 | Agriculture | 103c 3016 |
c Buckskin Mine | Humboldt Natl Forest-Winnemuca Ranger D. | Elko | NV | 89822 | Agriculture | 103c 3016 | 20A
o Humbolt National Forest | 967 Mountain City Hwy | Elko | NV | 89801 | Agriculture | 103c 3016 |
c Fort Ritchie | Harbaugh Valley Rd | Blue Ridge Summit | PA | 17214 | Army | 3010 | 20A
o AJCC-Fort Ritchie | Harbaugh Valley Rd | Blue Ridge Summit | PA | 17214 | Army | 3010 |
c US Bureau of Mines | 626 Cochrans Mill | Bruceton | PA | 15025 | Interior | 3010 103c 3016 | 20A
o BM-Bruceton | 626 Cochrans Mill | Bruceton | PA | 15025 | Interior | 3010 103c 3016 |
c Navy Ships Parts Control | 5450 Carlisle Pike PO Box 2020 | Mechanicsburg | PA | 17055 | Navy | 3005 3010 3016 103c | 20A
o Mechanicsburg Navy Ships Parts Control Center | 5450 Carlisle Pike PO Box 2020 | Mechanicsburg | PA | 17055 | Navy | 3005 3010 3016 103c
c Naval Regional Medical Center | 17 St and Pattison Ave | Philadelphia | PA | 19145 | Navy | 3010 3016 | 20A
o Philadelphia Naval Regional Medical Center | 17 St and Pattison Ave | Philadelphia | PA | 19145 | Navy | 3010 3016 |
c Navy Aviation Supply Office | 700 Robbins Ave | Philadelphia | PA | 19111 | Navy | 3010 3016 | 20A
o Philadelphia Navy Aviation Supply Office | 700 Robbins Ave | Philadelphia | PA | 19111 | Navy | 3010 3016 |
c Medical Center | University and Woodland Ave | Philadelphia | PA | 19104 | Veterans Affairs | 3010 103a 3016 | 20A
o Philadelphia Medical Center | University and Woodland Ave | Philadelphia | PA | 19104 | Veterans Affairs | 3010 103a 3016 |
c Morgantown Energy Technology Center | 3610 Collins Ferry Rd | Morgantown | WV | 26505 | Energy | 3010 103c 3016 | 20A
o National Energy Technology Laboratory | 3610 Collins Ferry Rd | Morgantown | WV | 26505 | Energy | 3010 103c 3016 |
c Naval Radio Station #1 | 63 Hedrick Dr | Sugar Grove | WV | 26815-5000 | Navy | 3010 3016 103c | 20A
o Naval Security Group Activity Sugar Grove-Main | 63 Hedrick Dr | Sugar Grove | WV | 26815-5000 | Navy | 3010 3016 103c |
c Naval Radio Station #2 | Randall Road, off State Road 21 | Sugar Grove | WV | 26815 | Navy | 103c | 20A
o Naval Security Group Activity Sugar Grove— | Randall Road, off State Road 21 | Sugar Grove | WV | 26815 | Navy | 103c
c Fort Belvoir—US Army Engineering Center | 9430 Jackson Loop | Fort Belvoir | VA | 22060-5130 | Army | 3005 3010 3016 103c | 20A
o US Army Engineering Center Fort Belvoir | 9430 Jackson Loop | Fort Belvoir | VA | 22060-5130 | Army | 3005 3010 3016 103c |
c NASA Wallops Island | Rte 175 | Wallops Island | VA | 23337 | NASA | 3010 103a 103c 3016 | 20A
o Goddard Space Flight Center Wallops Flight | Rte 175 | Wallops Island | VA | 23337 | NASA | 3010 103a 103c 3016
c USN Auxilary Landing Field | 3-4 Mi S Princess Ann CTH | Chesapeake | VA | 23322 | Navy | 103c 3016 | 20A
o Chesapeake Auxilary Landing Field F | 3-4 Mi S Princess Ann CTH | Chesapeake | VA | 23322 | Navy | 103c 3016
c Norfolk Naval Base (Sewells Point Naval) | 1530 Gilbert St Ste 2000 | Norfolk | VA | 23511 | Navy | 3005 3010 3016 103c | 20A
o NAVSTA Norfolk | 1530 Gilbert St Ste 2000 | Norfolk | VA | 23511 | Navy | 3005 3010 3016 103c
c Suffolk Naval Communication Area | 3300 Sleepy Hole Rd | Suffolk | VA | 23434 | Navy | 3010 3016 103c | 20A
o Suffolk Naval Communication Area | 3300 Sleepy Hole Rd | Suffolk | VA | 23434 | Navy | 3010 3016 103c |
c Camp Peary DoD | Camp Peary-PO Box 1447 | Williamsburg | VA | 23185 | Navy | 3010 3016 103c | 20A
o Williamsburg Armed Forces Exper Training | Camp Peary-PO Box 1447 | Williamsburg | VA | 23185 | Navy | 3010 3016 103c |
Note: For each facility for which a correction has been entered, the original entry (designated by an “O”), as it appeared in the February 12, 1988 notice or subsequent updates, is shown directly below the corrected entry (designated by a “C”) for easy comparison.

Federal Agency Hazardous Waste Compliance Docket Update #20—NFRAP Status Changes
Facility name | Address | City | State | Zip code | Agency | Reporting mechanism | NFRAP status
FS-Tongass NF: East 12 Mile Site | W Side of FS Rd 2120, 35 Mi SE of Craig, T75S R83E | Craig | AK | 99921 | Agriculture | 103c | N
FS-Tongass NF: Apex Mine | S13, Copper River Meridian T45S R56E S13, 23, 24 +57°57′01″ N, −136°17′45″ W | Pelican | AK | 99832 | Agriculture | 103c | N
FS-Tongass NF: El Nido Mine | T45S R56E S13,13,24 +57°56′56″ N, −136°17′01″ W | Pelican | AK |  | Agriculture | 103c | N
FS-Tongass NF: Ratz Harbor Shop Site | T69S R84E S18 | Thorne Bay | AK | 99919 | Agriculture | 103c | N
FS-Chugach NF: Mineral King Mine | T10N R6E Sec 14, 15, 23 | Whittier | AK | 99693 | Agriculture | 103c | N
National Arboretum | 3501 New York Avenue NE | Washington | DC | 20002 | Agriculture | 103c 3016 | N
Hubert H. Humphrey Building | 200 Independence Avenue, SW | Washington | DC | 20201 | General Services Administration | 3016 103c | N
Food & Drug Administration FB 8 | 200 C St SW HFF-14 Rm 6025 | Washington | DC | 20204 | Health and Human Services | 3010 103c | N
NPS-Washington Gas and Light Site | 1900 Anacostia Drive, SE | Washington | DC | 20020 | Interior | 103c | N
Anacostia Naval Station | 2701 South Capitol Street SW | Washington | DC | 20374 | Navy | 3010 103c 3016 | N
IRS-Washington | 1111 Constitution Ave, NW | Washington | DC | 20032 | Treasury | 103a | N
Hines Supply Depot | 1st Ave and 21st St | Hines | IL | 60141 | Veterans Affairs | 103c 3010 | N
Adelphi Laboratory Center (Harry Diamond Lab) | 2800 Powder Mill Rd | Adelphi | MD | 20783 | Army | 3005 3010 3016 103c | N
Phoenix Control (Nike) | Sunnybrook Road | Jacksonville | MD | 21131 | Army | 3016 103c 3010 | N
National Institute of Standards and Technology | Quince Orchard Rd | Gaithersburg | MD | 20760 | Commerce | 3005 3010 103c | N
National Marine Fisheries Service-Oxford Lab | U.S. Department of Marine Fisheries | Oxford | MD | 21654 | Commerce | 103c 3010 | N
David Taylor/Annapolis-Control | 640A Broadneck Road | Annapolis | MD | 21401 | Defense | 103c 3010 | N
Davidsonville-Launch | 3737 Elmer Hagner Lane | Davidsonville | MD | 21035 | Defense | 103c | N
Rockville-Control | 10901 Darnstown Road | Gaithersburg | MD | 20878 | Defense | 103c | N
Rockville-Launch | Muddy Branch | Gaithersburg | MD | 20879 | Defense | 103c | N
Fork-Control | End of Hutschenreuter Road | Glen Arm | MD | 21057 | Defense | 103c | N
Greenspring-Control | Greenspring Road | Greenspring | MD | 21117 | Defense | 103c | N
Greenspring-Launch | Ridge Road | Greenspring | MD | 21117 | Defense | 103c | N
Tolchester-Control | Tolchester Beach Rd | Tolchester | MD | 21661 | Defense | 103c | N
Croom-Control | 15100 Mt Calvert Rd | Upper Marlboro | MD | 20772 | Defense | 103c | N
Waldorf Naval Research Laboratory-Control | End of Laurel Branch Drive | Waldorf | MD | 20601 | Defense | 103c | N
Central Regional Laboratory | 839 Bestgate Road | Annapolis | MD | 21401 | EPA | 3010 103c | N
NIH-Bethesda | 9000 Rockville Pike | Bethesda | MD | 20892 | Health and Human Services | 3005 3010 3016 103c | N
Back Creek Rear Range Coast Guard Structure | 25 Ft Square Position | Chesapeake City | MD | 21915 | Homeland Security | 103c | N
Goddard Space Flight Center | Greenbelt Road | Greenbelt | MD | 20771 | NASA | 3010 103c 3016 | N
Naval Communication Unit Washington | Dangerfield & Commo Road | Clinton | MD | 20735 | Navy | 103a 103c 3010 | N
Charlevoix Coast Guard Station | 220 Coastguard Road | Charlevoix | MI | 49720 | Homeland Security | 3010 103c | N
Buckskin Mine | Humboldt Natl Forest-Winnemuca Ranger D | Elko | NV | 89822 | Agriculture | 103c 3016 | N
Dayton Medical Center | 4100 West 3rd Street, Building 330 | Dayton | OH | 45428 | Veterans Affairs | 103a 3010 | N
Allegheny National Forest | 222 Liberty Street Box 847 | Warren | PA | 16365 | Agriculture | 103c 3016 | N
Eastern Regional Research Center | 600 East Mermaid Lane | Wyndmoor | PA | 19038 | Agriculture | 3010 103c 3016 | N
Keystone Training Area | Greenwood Twp | Geneva | PA | 16316 | Army | 103c | N
Hays Army Ammunition Plant | 300 Mifflin Road | Pittsburgh | PA | 15207 | Army | 3016 103c | N
Valley Forge Army Hospital | Evergreen Drive | Schuylkill | PA | 19460 | Army | 103c | N
Scranton Army Ammunition Plant | 156 Cedar Ave | Scranton | PA | 18501 | Army | 3005 3010 3016 103c | N
Defense Distribution Region East | Harrisburg | New Cumberland | PA | 17070 | Defense Logistics Agency | 3005 3010 3016 103c | N
NPS-Valley Forge National Historic Park | Rte 23 | Valley Forge | PA | 19481 | Interior | 103c 3010 | N
Edgely Manor Industrial Park (Simon Site) | Silvi Avenue | Bristol Township | PA | 19007 |  | 103c | N
Sun Oil Co.-Chevron International Corp | 3001 Penrose Avenue | Philadelphia | PA | 19145 |  | 103c | N
Tennessee Gas Pipeline | Turkey Run (Station 319) | Wyalusing | PA | 18853 |  | 3010 | N
164th Airlift Wing |  | Memphis | TN | 37000 | Air Force | 3010 | N
US Coast Guard (Ouachita) Shoreside | 3551 Old Harrison Pike | Chattanooga | TN | 37416 | Homeland Security | 3010 | N
Cameron Station | 5010 Duke St | Alexandria | VA | 22314 | Army | 3010 3016 103c | N
Arlington Hall Station | U.S. Army | Warrenton | VA | 22186 | Army | 3010 103c | N
John H. Kerr Reservoir | Route 1 Box 76 | Boydton | VA | 23917 | Corps of Engineers, Civil | 3010 103c 3016 | N
Portsmouth Coast Guard Support Center | 4000 Coast Guard Blvd | Portsmouth | VA | 23703 | Homeland Security | 3010 103c | N
Portsmouth Naval Hospital | Effingham Street | Portsmouth | VA | 23708 | Navy | 3010 3016 103c | N
Sutton Enterprises Inc. | 1067 “A” Alexandria Lane | Chesapeake | VA | 23320 |  | 103c 3010 | N
New England Log Homes | Old Route 58 West | Lawrenceville | VA | 23868 |  | 103c | N
Camp Wesley Harris Marine Facility | Seabeck Hwy 3 Mi W of Cy | Bremerton | WA | 98310 | Navy | 103c 3010 | U
Nicolet NF: County Trunk Highway “T” Site | Section 3 T31N R15E | Doty Township | WI | 54149 | Agriculture | 103c | N
Winfield Locks & Dams | RFD #1 Box 530 | Red House | WV | 25168 | Corps of Engineers, Civil | 103c 3010 | N
Point Pleasant Defense National Stockpile Center | 2601 Madison Ave. | Point Pleasant | WV | 25550 | Defense | 103c | N
Morgantown Energy Technology Center | West Virginia Secondary Route 9 | Rocket Center | WV | 26726 | Energy | 3005 3010 3016 103c | N
Martinsburg Hospital | Route 9 | Martinsburg | WV | 25401 | Veterans Affairs | 103c | N
Cytec Industries Chemical Fire | Route 2 South | Belmont | WV | 26134 |  | 103c | N
Iaeger PCB Site | Near Lick Branch | Iaeger | WV |  |  | 103c | N

[FR Doc. 04-27770 Filed 12-17-04; 8:45 am]

BILLING CODE 6560-50-P